DEPARTMENT OF ENERGY

Federal Energy Regulatory Commission

[Docket No. RP01-275-000]

Natural Gas Pipeline Company of America; Notice of Filing of Non-Conforming Firm Transportation Rate Discount Agreement

March 28, 2001.

Take notice that on March 21, 2001, Natural Gas Pipeline Company of America (Natural) tendered for filing a firm transportation rate discount agreement between Natural and Green Valley Chemical Corporation dated November 17, 2000 (Green Valley Contract) because it may contain provisions which do not conform to the terms and conditions of Natural's FERC Gas Tariff, Sixth Revised Volume No. 1. Natural has separately made a concurrent filing tendering Second Revised Sheet No. 414 for approval to update its List of Non-conforming Agreements to include the Green Valley Contract to be effective April 20, 2001.

Natural requests any waiver which may be required to permit the Green Valley Contract submitted herein to become effective on April 20, 2001 consistent with Natural's proposed Second Revised Sheet No. 414.

Any person desiring to be heard or to protest said filing should file a motion to intervene or a protest with the Federal Energy Regulatory Commission, 888 First Street, NE., Washington, DC 20426, in accordance with sections 385.214 or 385.211 of the Commission's Rules and Regulations. All such motions or protests must be filed on or before April 4, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-8116 Filed 4-2-01; 8:45 am]

BILLING CODE 6717-01-M